FEDERAL MARITIME COMMISSION

[Docket No. 06-05]

Verucci Motorcylces LLC v. Senator International Ocean, LLC; Notice of Filing of Complaint and Assignment

Notice is given that a complaint has been filed with the Federal Maritime Commission (“Commission”) by Verucci Motorcycles, LLC., (“Complainant”), against Senator International Ocean, LLC, (“Respondent”). Complainant asserts that it is a limited liability company engaged in the business of manufacturing and wholesale distribution of motorcycles and scooters. Complainant contends that Respondent Senator International Ocean, LLC. is a licensed international freight forwarder, Customs Broker, and NVOCC. Complainant asserts that in September of 2005 it agreed to use Respondent's services for freight forwarding and customs brokerage in connection with their importation of scooters and motorcycles from China to the USA and Puerto Rico. Complainant asserts that Respondent failed to fulfill its transportation obligations, leading to delays and financial losses to Complainant. Complainant further contends that the actions of Respondent violate Section 10 of the Shipping Act of 1984 (“The Act”) by committing the following prohibited acts: Misdeclarations of cargo; unfilled agreements; failure to carry out transportation obligations resulting in cargo delays and financial losses for shippers; unfair or unjust discriminatory practices; and unreasonable refusal to deal or negotiate. In addition, Complainant contends that Respondent violated 46 CFR 515.31(d) by not exercising due diligence and negligently providing fraudulent information in shipping documents, and withholding information from its principal. Complainant prays that the Commission require the Respondent to: Answer the charges; cease and desist from the aforesaid violations; establish and put in force such practices as the Commission determines to be lawful and reasonable; pay Complainant by way of reparations $3,841,825.00 plus interest and attorney's fees or such other sum as the Commission may determine to be proper as an award of reparation; and that such other and further order or orders be made as the Commission determines to be proper in the circumstances.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by April 2, 2007, and the final decision of the Commission shall be issued by July 31, 2007.

Bryant L. VanBrakle,
Secretary.

[FR Doc. E6-4930 Filed 4-4-06; 8:45 am]

BILLING CODE 6730-01-P